DEPARTMENT OF DEFENSE

Defense Acquisition Regulations System

48 CFR Parts 211 and 252

[Docket DARS-2020-0006]

RIN 0750-AK60

Defense Federal Acquisition Regulation Supplement: Repeal of DFARS Clause “Substitutions for Military or Federal Specifications and Standards” (DFARS Case 2019-D023)

AGENCY: Defense Acquisition Regulations System, Department of Defense (DoD).

ACTION: Final rule.

SUMMARY: DoD is issuing a final rule amending the Defense Federal Acquisition Regulation Supplement (DFARS) to remove internal agency guidance and a clause that is no longer necessary pursuant to action taken by the DoD Regulatory Reform Task Force.

DATES: Effective October 1, 2020.

FOR FURTHER INFORMATION CONTACT: Ms. Carrie Moore, telephone 571-372-6093.

SUPPLEMENTARY INFORMATION:

I. Background

DoD published a proposed rule in the Federal Register at 85 FR 19722 on April 8, 2020, to remove DFARS subpart 211.273, Substitutions for Military or Federal Specifications and Standards, and DFARS clause 252.211-7005, Substitutions for Military of Federal Specifications, from the DFARS, because the guidance and clause are no longer necessary. One public comment was received in response to the proposed rule. The public comment was outside the scope of this case and no changes were made to the rule, as a result of public comment.

II. Applicability to Contracts at or Below the Simplified Acquisition Threshold and for Commercial Items, Including Commercially Available Off-the-Shelf Items

This rule only removes obsolete internal guidance and the clause at DFARS 252.211-7005 from the DFARS. This rule does not impose any new requirements on contracts at or below the simplified acquisition threshold, or commercial items, including commercially available off-the-shelf items.

III. Executive Orders 12866 and 13563

E.O.s 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

IV. Executive Order 13771

This rule is not subject to E.O. 13771, because this rule is not a significant regulatory action under E.O. 12866.

V. Regulatory Flexibility Act

DoD does not expect this rule to have a significant economic impact on a substantial number of small businesses within the meaning of the Regulatory Flexibility Act, 5 U.S.C. 601, et seq., because the rule is not creating any new requirements for contractors or changing any existing policies or practices. However, a final regulatory flexibility analysis has been prepared and is summarized as follows:

The Department of Defense is amending the Defense Federal Acquisition Regulation Supplement (DFARS) to repeal DFARS subpart 211.273, Substitutions for Military or Federal Specifications of Standards, and DFARS clause 252.211-7005, Substitutions for Military or Federal Specifications of Standards, as the guidance and clause are no longer necessary. The objective of this rule is to remove outdated guidance from the DFARS and reduce regulatory burden on the public. This repeal is pursuant to action taken by the DoD Regulatory Reform Task Force established under Executive Order 13777, Enforcing the Regulatory Reform Agenda.

No public comments were received in response to the initial regulatory flexibility analysis.

DoD does not collect data on the number of small businesses that proposed an Single Process Initiative (SPI) process in lieu of military of Federal specifications or standards cited in the solicitation. Instead, DoD subject matter experts estimate that approximately 10 contractors participate in SPI and that each participant will respond to one solicitation per year. Based on the information available, DoD does not anticipate that this rule will significantly impact small business entities.

This rule does not include any new reporting, recordkeeping, or other compliance requirements for small businesses.

There are no known alternative to the rule that will meet the stated objectives or minimize the impact on of the rule on small entities.

VI. Paperwork Reduction Act

This rule removes the burden associated with DFARS 252.211-7005 from the information collection requirement currently approved under 0704-0398, entitled DFARS Part 211, Describing Agency Needs, and Related Clause at DFARS 252.211. This reduction is reflected in the revision to and extension of the information collection, as published in the Federal Register on February 27, 2020, at 85 FR 11351, and May 28, 2020, at 85 FR 32019.

List of Subjects in 48 CFR Parts 211 and 252

Government procurement.

Jennifer D. Johnson,
Regulatory Control Officer, Defense Acquisition Regulations System.

Therefore, 48 CFR parts 211 and 252 are amended as follows:

1. The authority citation for 48 CFR parts 211 and 252 continues to read as follows:

Authority: 41 U.S.C. 1303 and 48 CFR chapter 1.

PART 211—DESCRIBING AGENCY NEEDS

211.273 [Removed and Reserved]

2. Remove and reserve section 211.273.

211.273-1 through 211.273-4 [Removed]

3. Remove sections 211.273-1 through 211.273-4.

PART 252—SOLICITATION PROVISIONS AND CONTRACT CLAUSES

252.211-7005 [Removed and Reserved]

4. Remove and reserve section 252.211-7005.

[FR Doc. 2020-21248 Filed 9-28-20; 8:45 am]

BILLING CODE 5001-06-P